DEPARTMENT OF TRANSPORTATION

Federal Railroad Administration

Petition for Waiver of Compliance

In accordance with Title 49 Code of Federal Regulations (CFR) Part 211, notice is hereby given that the Federal Railroad Administration (FRA) received a request for a waiver of compliance from certain Federal railroad safety requirements. The individual petition is described below, including the party seeking relief, the regulatory provisions involved, the nature of the relief being requested, and the petitioner's arguments in favor of relief.

Union Pacific Railroad Company

[Docket Number FRA-2006-25765]

The Union Pacific Railroad Company (UP) seeks a waiver of compliance from certain provisions of Brake System Safety Standards for Freight and Other Non-passenger Trains and Equipment, End of Train Devices, 49 CFR part 232; Freight Car Safety Standards, 49 CFR part 215; and Locomotive Safety Standards, 49 CFR part 229. Specifically, UP requests that the following regulations be waived to permit run-through trains that originate in Mexico and are interchanged with the UP at the Laredo, Texas Gateway, in order to operate into the interior of the United States without having to perform any additional train or locomotive inspections at the U.S./Mexican border: Class I Brake Test—Initial Terminal Inspection, 49 CFR 232.205; Inspection and Test of the End-of-Train Devices, 49 CFR 232.409; Pre-departure Inspection, 49 CFR 215.13; and Daily Inspection, 49 CFR 229.21.

Currently, the Federal Railroad Administration (FRA) requires mechanical inspections and tests for all trains and equipment that enter the United States from Mexico. UP states in its waiver request that these trains are pre-blocked in Mexico and given the necessary tests and inspections by the Kansas City Southern de Mexico (KCSM) and/or their contractor at KCSM's Nuevo Laredo/Sanchez yards. UP contends that all of these tests and inspections are performed to the standards prescribed by 49 CFR parts 232, 215, and 229. In addition, KCSM has provided written consent for FRA inspectors to inspect their facilities and observe the personnel involved with performing the required tests and inspections. UP believes that this waiver is warranted since these trains travel only a few miles before they cross the border and receive another test and inspection in the United States. UP submits that if this request is granted, it will save approximately 5 hours per run-through train, greatly reducing congestion and increasing the capacity at the Laredo Gateway.

Both the UP and KCSM are parties of this waiver request, with KCSM performing the required inspections and tests and UP operating the trains into the interior of the United States. Both railroads will be responsible for maintaining the records required by applicable regulations. Access to the records will be provided in the United States by either the UP or Kansas City Southern.

It must be noted that UP made a similar waiver request on July 23, 2004, (Docket No. FRA-2004-18746) petitioning FRA to permit trains to travel into the interior of the United States without receiving any mechanical inspection or test at the border, based on Transportacion Ferroviaria Mexicana (TFM) performing the required tests and inspections at TFM's facility in Nuevo Laredo (See 69 FR 48558). This request was reviewed by the FRA Safety Board and denied for several reasons. All information regarding this request can be obtained as indicated below.

Interested parties are invited to participate in these proceedings by submitting written data or comments. FRA does not anticipate scheduling a public hearing in connection with these proceedings since the facts do not appear to warrant a hearing. If any interested party desires an opportunity for oral comment, they should notify FRA in writing before the end of the comment period and specify the basis for their request.

All communications concerning this petition should identify the appropriate docket number (FRA-2006-25765) and may be submitted by one of the following methods:

• Web site: http://dms.dot.gov. Follow the instructions for submitting comments on the DOT electronic site;

• Fax: 202-493-2251;

• Mail: Docket Management Facility, U.S. Department of Transportation, 400 Seventh Street, SW., Nassif Building, Room PL-401, Washington, DC 20590-0001; or

• Hand Delivery: Room PL-401 on the plaza level of the Nassif Building, 400 Seventh Street, SW., Washington, DC, between 9 a.m. and 5 p.m., Monday through Friday, except Federal holidays.

Communication received within 45 days of the date of this notice will be considered by FRA prior to final action being taken. Comments received after that date will be considered to the extent practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment on behalf of an association, business, labor union, etc.). You may review the DOT's complete Privacy Act Statement in the Federal Register published on April 11, 2000 (Volume 65, Number 70; Pages 19477-78). The Statement may also be found at http://dms.dot.gov.

Issued in Washington, DC on November 22, 2006.
Grady C. Cothen, Jr.,
Deputy Associate Administrator for Safety Standards and Program Development.

[FR Doc. E6-20096 Filed 11-27-06; 8:45 am]

BILLING CODE 4910-06-P